DEPARTMENT OF TRANSPORTATION

Maritime Administration

U.S. Merchant Marine Academy Board of Visitors Notice of Meeting

AGENCY: Maritime Administration, Department of Transportation.

ACTION: Meeting notice.

SUMMARY: Under the provisions of the Federal Advisory Committee Act of 1972 (5 U.S.C., Appendix, as amended), the Government in Sunshine Act of 1976 (5 U.S.C. 552b, as amended) and 41 CFR 102-3.150, the U.S. Department of Transportation, Maritime Administration (MARAD) announces that a meeting of the U.S. Merchant Marine Academy (“Academy”) Board of Visitors (BOV) will take place:

1. Date: February 26, 2015.

2. Time: 2:30 to 3:30 p.m. (local) Eastern Time.

3. Requirements for Access: Members of the public wishing to attend the meeting will need to show photo identification in order to gain access to the meeting location. All participants are subject to security screening.

4. Location: To Be Determined; Washington, DC.

5. Purpose of the Meeting: The purpose of this meeting is to highlight the President's Fiscal Year 2016 Budget Request for the Academy, update Members on the Academy Advisory Board activities, and provide an overview of the 2013-14 Academic Year Report on Sexual Harassment and Sexual Assault. This meeting will also discuss the organization of the BOV for this Congress, including selecting a Chairperson if a quorum of members is present.

6. Public Access to the Meeting: Pursuant to the Federal Advisory Committee Act (5 U.S.C. 552b and 41 CFR 102-3.140 through 102-3.165) and the availability of space, this meeting is open to the public. Seating is on a first-come basis.

FOR FURTHER INFORMATION CONTACT: The BOV Designated Federal Officer or Point of Contact: Brian Blower and 202-266-2765 or brian.blower@dot.gov.

SUPPLEMENTARY INFORMATION: Any member of the public is permitted to file a written statement with the Academy BOV. Written statements should be sent to the Designated Federal Officer at: Brian Blower, Maritime Administration, 1200 New Jersey Avenue SE., Washington, DC 20590 or faxed to 202-366-3890. Written statements must be received no later than five working days prior to the next meeting in order to provide time for member consideration. By rule, no member of the public attending open meetings will be allowed to present questions from the floor or speak to any issue under consideration by the BOV.

Authority: 46 U.S.C. 51312; 5 U.S.C. app. 552b; 41 CFR parts 102-3.140 through 102-3.165.

By Order of the Maritime Administrator.
Dated: February 10, 2015.
Christine S. Gurland,
Acting Secretary, Maritime Administration.

[FR Doc. 2015-03059 Filed 2-12-15; 8:45 am]

BILLING CODE 4910-81-P S